DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action takes effect on the date listed in Supplementary Information.

FOR FURTHER INFORMATION CONTACT: OFAC: Associate Director for Global Targeting, 202-622-2420; Assistant Director for Licensing, 202-622-2480; Assistant Director for Regulatory Affairs, 202-622-4855; or Assistant Director for Compliance, 202-622-2490 or https://ofac.treasury.gov/contact-ofac.

SUPPLEMENTARY INFORMATION:

Electronic Availability

The SDN List and additional information concerning OFAC sanctions programs are available on OFAC's website (https://www.treasury.gov/ofac).

Notice of OFAC Action(s)

On September 24, 2024, OFAC determined that the persons identified below meet one or more of the criteria for the imposition of sanctions set forth in section 1(a)-(c) of Executive Order 14059 of December 15, 2021, “Imposing Sanctions on Foreign Persons Involved in the Global Illicit Drug Trade,” 86 FR 71549 (December 17, 2021) (E.O. 14059). OFAC has selected to impose blocking sanctions pursuant to section 2(a)(i) of E.O. 14059 on the persons identified below.

Individuals

1. ALCARAZ MORALES, Wilder de Jesus (a.k.a. “El Indio”), Colombia; DOB 28 Feb 1989; POB Turbo, Antioquia, Colombia; Gender Male; Cedula No. 1040763025 (Colombia) (individual) [ILLICIT-DRUGS-EO14059] (Linked To: CLAN DEL GOLFO).

Determined to meet the criteria for imposition of sanctions pursuant to section (1)(b)(iii) of E.O. 14059 for being owned, controlled, or directed by, or having acted or purported to act for or on behalf of, CLAN DEL GOLFO, a person sanctioned pursuant to E.O. 14059.

2. CELIS DURANGO, Alexander (a.k.a. “Bayron”), Colombia; DOB 05 Aug 1978; POB Necocli, Antioquia, Colombia; nationality Colombia; Gender Male; Cedula No. 10933010 (Colombia) (individual) [ILLICIT-DRUGS-EO14059].

Determined to meet the criteria for imposition of sanctions pursuant to section (1)(a)(i) of E.O. 14059 for having engaged in, or attempted to engage in, activities or transactions that have materially contributed to, or pose a significant risk of materially contributing to, the international proliferation of illicit drugs or their means of production.

3. CORDOBA QUINTO, Jose Emilson (a.k.a. “Negro Perea”), Colombia; DOB 31 Aug 1969; POB Istmina, Choco, Colombia; nationality Colombia; Gender Male; Cedula No. 11710361 (Colombia) (individual) [ILLICIT-DRUGS-EO14059] (Linked To: CLAN DEL GOLFO).

Determined to meet the criteria for imposition of sanctions pursuant to section (1)(b)(iii) of E.O. 14059 for being owned, controlled, or directed by, or having acted or purported to act for or on behalf of, CLAN DEL GOLFO, a person sanctioned pursuant to E.O. 14059.

4. DEMOYA HERNANDEZ, Jose Miguel (a.k.a. DEMOYA, JOSE MIGUEL; a.k.a. “Chirimoya”), Colombia; DOB 19 Sep 1984; nationality Colombia; Gender Male; Cedula No. 78115749 (Colombia) (individual) [ILLICIT-DRUGS-EO14059].

Determined to meet the criteria for imposition of sanctions pursuant to section (1)(a)(i) of E.O. 14059 for having engaged in, or attempted to engage in, activities or transactions that have materially contributed to, or pose a significant risk of materially contributing to, the international proliferation of illicit drugs or their means of production.

5. SANCHEZ SANCHEZ, Jose Gonzalo (a.k.a. “Gonzalito”), Colombia; DOB 30 Dec 1974; POB Monteria, Cordoba, Colombia; nationality Colombia; Gender Male; Cedula No. 11002977 (Colombia) (individual) [ILLICIT-DRUGS-EO14059].

Determined to meet the criteria for imposition of sanctions pursuant to section (1)(b)(iii) of E.O. 14059 for being owned, controlled, or directed by, or having acted or purported to act for or on behalf of, CLAN DEL GOLFO, a person sanctioned pursuant to E.O. 14059.

Entities

1. FARMACIA Y MINI SUPER TRINIDAD (a.k.a. FARMACIA TRINIDAD; a.k.a. “FARMACIATRINIDADNOGALES”), Calle Orizaba 81, Col. Empalme, Nogales, Sonora 84080, Mexico; Email Address farmaciatrinidadnogales@gmail.com; Phone Number +52 631 104 2274; alt. Phone Number +52 631 172 1037; Organization Type: Retail sale of pharmaceutical and medical goods, cosmetic and toilet articles in specialized stores; R.F.C. MOHA720319GT3 (Mexico) [ILLICIT-DRUGS-EO14059] (Linked To: MORGAN HUERTA, Jose Arnoldo).

Determined to meet the criteria for imposition of sanctions pursuant to section (1)(b)(iii) of E.O. 14059 for being owned, controlled, or directed by, or having acted or purported to act for or on behalf of, MORGAN HUERTA, Jose Arnoldo, a person sanctioned pursuant to E.O. 14059.

2. NIEVES Y PALETAS EVI (a.k.a. “NIEVESYPALETASEVI”), Boulevard San Angel 3270, Estrella Nueva Galicia, San Benito, Culiacan, Sinaloa 80280, Mexico; Culiacan, Sinaloa, Mexico; Pueblos Unidos, Sinaloa, Mexico; Tacuichamona, Sinaloa, Mexico; Organization Established Date 09 Sep 2019; Organization Type: Retail sale of food in specialized stores [ILLICIT-DRUGS-EO14059] (Linked To: LARRANAGA HERRERA, Jesus Norberto; Linked To: LIZARRAGA SANCHEZ, Karla Gabriela).

Determined to meet the criteria for imposition of sanctions pursuant to section (1)(b)(iii) of E.O. 14059 for being owned, controlled, or directed by, or having acted or purported to act for or on behalf of, LARRANAGA HERRERA, Jesus Norberto and LIZARRAGA SANCHEZ, Karla Gabriela, persons sanctioned pursuant to E.O. 14059.

Lisa M. Palluconi,
Acting Director, Office of Foreign Assets Control, U.S. Department of the Treasury.

[FR Doc. 2024-23043 Filed 10-4-24; 8:45 am]

BILLING CODE P